SECURITIES AND EXCHANGE COMMISSION

[File No. 500-1 ]

Nevada Gold Corp.; Order of Suspension of Trading

November 27, 2013.

It appears to the Securities and Exchange Commission that there is a lack of current and accurate information concerning the securities of Nevada Gold Corp. (“Nevada Gold”) because of questions regarding the accuracy of assertions by Nevada Gold, and by others, to investors in press releases and promotional material concerning, among other things, the company's assets, operations, and financial condition. Nevada Gold is a Delaware corporation based in Del Mar, California. The company's common stock is dually quoted on the OTCBB and OTC Link under the symbol NVGC.

The Commission is of the opinion that the public interest and the protection of investors require a suspension of trading in the securities of the above-listed company.

Therefore, it is ordered, pursuant to Section 12(k) of the Securities Exchange Act of 1934, that trading in the securities of the above-listed company is suspended for the period from 9:30 a.m. EST on November 27, 2013 through 11:59 p.m. EST, on December 11, 2013.

By the Commission.
Lynn M. Powalski,
Deputy Secretary.

[FR Doc. 2013-28871 Filed 11-27-13; 4:15 pm]

BILLING CODE 8011-01-P